DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Harris County, Texas, and Incorporated Areas
Docket No: FEMA-B-1164
K100-00-00 (Cypress Creek) | Approximately 0.57 mile downstream of Treaschwig Road | +79 | City of Houston, Unincorporated Areas of Harris County.
| Approximately 1.1 miles upstream of the Waller County boundary | +173
K111-00-00 (Turkey Creek) | Approximately 1,100 feet downstream of Hardy Toll Road | +90 | Unincorporated Areas of Harris County.
| Approximately 650 feet upstream of North Vista Drive | +105
K116-00-00 (Schulz Gully) (backwater effects from Cypress Creek) | At the Cypress Creek confluence | +85 | Unincorporated Areas of Harris County.
| Approximately 920 feet downstream of Aldine Westfield Road | +85
K120-00-00 (Lemm Gully) (backwater effects from Cypress Creek) | At the Cypress Creek confluence | +92 | Unincorporated Areas of Harris County.
| Approximately 0.4 mile upstream of Lockridge Drive | +92
K120-01-00 (Senger Gully) (backwater effects from Cypress Creek) | At the Lemm Gully confluence | +92 | City of Houston, Unincorporated Areas of Harris County.
| Approximately 100 feet upstream of I-45 | +92
K124-00-00 (Seals Gully) | Approximately 1,400 feet downstream of Candle Creek Road | +102 | Unincorporated Areas of Harris County.
| Approximately 500 feet upstream of Spring Cypress Road | +125
K131-00-00 (Spring Gully) | At the Cypress Creek confluence | +106 | Unincorporated Areas of Harris County.
| Approximately 200 feet downstream of Spring Cypress Road | +137
K131-03-03 (Tributary 2.1 to Spring Gully) (backwater effects from Spring Gully) | At the Spring Gully confluence | +112 | Unincorporated Areas of Harris County.
| At the upstream side of T.C. Jester Boulevard | +112
K131-04-00 (Tributary to Spring Gully) (backwater effects from Spring Gully) | At the Spring Gully confluence | +121 | Unincorporated Areas of Harris County.
| Approximately 1,600 feet upstream of the Spring Gully confluence | +122
K133-00-00 (Dry Gully) (backwater effects from Cypress Creek) | At the Cypress Creek confluence | +112 | Unincorporated Areas of Harris County.
| Approximately 400 feet upstream of Champions Forest Drive | +112
K140-00-00 (Pillot Gully) (backwater effects from Cypress Creek) | At the Cypress Creek confluence | +118 | Unincorporated Areas of Harris County.
| At the downstream side of River Park Drive | +118
K142-00-00 (Faulkey Gully) | At the Cypress Creek confluence | +122 | Unincorporated Areas of Harris County.
| At the downstream side of Lakewood Forest Drive | +123
K145-00-00 (Dry Creek) (backwater effects from Cypress Creek) | At the Cypress Creek confluence | +139 | Unincorporated Areas of Harris County.
| At the downstream side of Jarvis Road | +139
K152-00-00 (Tributary 37.1 to Cypress Creek) | Approximately 1,500 feet upstream of the Cypress Creek confluence | +148 | Unincorporated Areas of Harris County.
| Approximately 920 feet downstream of U.S. Route 290 | +151
K155-00-00 (Tributary 40.7 to Cypress Creek) | At the Cypress Creek confluence | +158 | Unincorporated Areas of Harris County.
| Approximately 1,580 feet downstream of U.S. Route 290 | +197
K157-00-00 (Tributary 42.7 to Cypress Creek) | At the Cypress Creek confluence | +163 | Unincorporated Areas of Harris County.
| Approximately 2.0 miles upstream of Jack Road | +196
K159-00-00 (Channel A to Cypress Creek) (backwater effects from Cypress Creek) | At the Cypress Creek confluence | +151 | Unincorporated Areas of Harris County.
| Approximately 1,900 feet upstream of the Cypress Creek confluence | +151
K160-00-00 (Rock Hollow) | At the Cypress Creek confluence | +163 | Unincorporated Areas of Harris County.
| Approximately 980 feet upstream of Mound Road | +206
K160-01-00 (Tributary 1.63 to Rock Hollow) | Approximately 0.6 mile upstream of the Rock Hollow confluence | +166 | Unincorporated Areas of Harris County.
| Approximately 2.8 miles upstream of the Rock Hollow confluence | +192
K185-00-00 and K172-00-00 (Tributary 44.5 to Cypress Creek) | At the Cypress Creek and K185-00-00 confluence | +166 | Unincorporated Areas of Harris County.
| Approximately 0.7 mile downstream of Mound Road | +206
L100-00-00 (Little Cypress Creek) (backwater effects from Cypress Creek) | At the Cypress Creek confluence | +130 | Unincorporated Areas of Harris County.
| Approximately 1,500 feet upstream of the Cypress Creek confluence | +130
* National Geodetic Vertical Datum.
+ North American Vertical Datum.
# Depth in feet above ground.
‸ Mean Sea Level, rounded to the nearest 0.1 meter.
ADDRESSES
City of Houston
Maps are available for inspection at the Public Works and Engineering Department, 611 Walker Street, Houston, TX 77002.
Unincorporated Areas of Harris County
Maps are available for inspection at the Harris County Public Infrastructure Department, A&E Division, Permit Office, 10555 Northwest Freeway, Suite 120, Houston, TX 77092.

(Catalog of Federal Domestic Assistance No. 97.022, “Flood Insurance.”)

Roy E. Wright,
Deputy Associate Administrator for Mitigation, Department of Homeland Security, Federal Emergency Management Agency.

[FR Doc. 2013-13370 Filed 6-5-13; 8:45 am]

BILLING CODE 9110-12-P